DEPARTMENT OF THE INTERIOR

Office of the Secretary

[20XD4523WC DWCFO0000.000000 DS68664000 DQ.QSO00.20WC0000]

Proposed Renewal of Information Collection: OMB Control Number 1084-0033, Private Rental Survey

AGENCY: Office of Acquisition and Property Management. Office of the Secretary, Interior.

ACTION: Notice and request for comments.

SUMMARY: In compliance with the Paperwork Reduction Act of 1995, the Office of Acquisition and Property Management, Office of the Secretary, Department of the Interior, has submitted an information collection request to the Office of Management and Budget (OMB) to continue the collection of information for the “Private Rental Survey” OMB Control No. 1084-0033. The information collection request (ICR) describes the nature of the information collection and the expected burden and cost.

DATES: OMB has up to 60 days to approve or disapprove the information collection request, but may respond after 30 days; therefore, public comments should be submitted to OMB by January 22, 2020, in order to be assured of consideration.

ADDRESSES: Submit comments to the Office of Information and Regulatory Affairs, Office of Management and Budget, Attention: Desk Officer for the Department of the Interior (1084-0033), by telefax at (202) 395-5806 or via email to OIRA_submission@omb.eop.gov. Also, please send a copy of your comments to Laura Walters, Quarters Rental Program Manager, Interior Business Center, 7301 W Mansfield Ave, MS D-2910, Denver, CO 80235, or fax 303-969-6336, or by email to laura_a_walters@ibc.doi.gov. Individuals providing comments should reference “Private Rental Survey” OMB Control No. 1084-0033.

FOR FURTHER INFORMATION CONTACT: To request more information on this information collection or to obtain a copy of the collection instrument, please write or call Laura Walters, Quarters Rental Program Manager, Interior Business Center, 7301 W Mansfield Ave, MS D-2910, Denver, CO 80235, or fax 303-969-6336, or by email to laura_a_walters@ibc.doi.gov. Individuals providing comments should reference “Private Rental Survey” OMB Control No. 1084-0033. To see a copy of the entire ICR submitted to OMB, go to: http://www.reginfo.gov and select Information Collection Review, Currently Under Review.

SUPPLEMENTARY INFORMATION:

I. Abstract

Office of Management and Budget (OMB) regulations at 5 CFR 1320, which implement the Paperwork Reduction Act of 1995 (Pub. L. 104-131), require that interested members of the public and affected parties have an opportunity to comment on information collection and recordkeeping activities. This notice identifies an information collection activity that the Office of Acquisition and Property Management has submitted to OMB for renewal.

Title 5 of the U.S. Code section 5911 authorizes Federal agencies to provide housing for Government employees under specified circumstances. In compliance with OMB Circular A-45 (Revised), Rental and Construction of Government Quarters, a review of private rental market housing rates is required at least once every 5 years to ensure that the rental, utility charges, and charges for related services to occupants of Government Furnished Housing (GFH) are comparable to corresponding charges in the private sector. To avoid unnecessary duplication and inconsistent rental rates, the Department of the Interior, Office of the Secretary, Interior Business Center (on behalf of the Office of Acquisition and Property Management), conducts housing surveys in support of employee housing management programs for the Departments of the Interior (DOI), Agriculture, Commerce, Homeland Security, Justice, Transportation, Health and Human Services, Veterans Affairs, and other agencies. In this survey, two collection forms are used for rental unit data: OS-2000 covering “Houses-Apartments-Mobile Homes,” and OS-2001 covering “Trailer Spaces.”

Respondents are typically property management companies or significant property owners in specific communities, and are contacted by email or telephone. They may provide the rental unit information requested in OS-2000 and OS-2001 verbally, update rental data collected during a previous survey, enhance/complete rental data gathered from published sources, or provide printouts/lists of rental units they manage.

This collection of information provides data that is essential for DOI and the other Federal agencies to manage GFH in accordance with the requirements of OMB Circular A-45 (Revised). If this information were not collected from the public, DOI and the other Federal agencies providing GFH would be required to use professional real estate appraisals of private market rental costs, again, in accordance with OMB Circular A-45, but at an increased cost to the taxpayer.

II. Data

(1) Title: Private Rental Survey.

OMB Control Number: 1084-0033.

Type of Review: Extension without change of a currently approved collection

Affected Entities: Businesses and other for-profit institutions.

Estimated annual number of unique respondents: 1,883

Obligation to Respond: Voluntary.

Estimated annual average number of responses (rental units): OS-2000: 3,180; OS-2001: 359; Total: 3,539.

Frequency of response: Once per respondent every fourth year. Three or four of 16 total survey regions are surveyed every year. Therefore a respondent or business may potentially be surveyed every fourth year, if exact same unit is surveyed again four years later. In addition, if an individual respondent or business is a significant rental property manager or rental property owner in the community, they may provide multiple responses in the same survey. Approximately 63% of respondents furnish more than one rental unit (OS-2000 and OS-2001). About 60% of respondents validate published data (tax records, advertisement, etc.), 30% update their previous survey data, and 10% furnish a new OS-2000 or OS-2001. Participation is optional.

(2) Annual reporting and recordkeeping burden:

Total annualized reporting per response: 6 minutes for OS-2000 and 4 minutes for OS-2001.

Total annualized reporting: 342 hours.

(3) Description of the need and use of the information: This information collection provides the data that enables DOI to determine open market rental costs for GFH. These rates in turn enable DOI to set GFH rental rates for other Federal agencies, as a shared federal service, in accordance with the requirements of OMB Circular A-45 (Revised). The information collection enables government employee rental rates to be established that comply with A-45 for several agencies cost-effectively.

(4) As required under 5 CFR 1320.8(d), a Federal Register notice soliciting comments on the information collection was published on May 5, 2016 (81 FR 27171). No comments were received. This notice provides the public with an additional 30 days in which to comment on the proposed information collection activity.

III. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on respondents, including through the use of appropriate automated, electronic, mechanical, or other collection techniques or other forms of information technology.

“Burden” means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

While you can ask us in your comment to withhold your personal information from public review, we cannot guarantee that we will be able to do so. An agency may not conduct or sponsor, and a person is not required to respond to, a collection of information unless it displays a currently valid Office of Management and Budget control number.

Jeffrey Parrillo,
Departmental Information Collection Clearance Officer, Office of the Secretary, Department of the Interior.

[FR Doc. 2019-27617 Filed 12-20-19; 8:45 am]

BILLING CODE 4334-63-P